DEPARTMENT OF TRANSPORTATION

Coast Guard

[USCG-1998-3584]

Proposed Modernization of the Coast Guard National Distress and Response System

AGENCY: Coast Guard, DOT.

ACTION: Notice of availability of finding of no significant impact.

SUMMARY: In accordance with the National Environmental Policy Act (NEPA) and the Council on Environmental Quality's Regulations for Implementing NEPA, the U.S. Coast Guard announces that it has approved its Supplemental Program Environmental Assessment (SPEA) and has made available its Finding of No Significant Impact (FONSI) for the proposed modernization of the National Distress and Response System (NDRS) known as “Rescue 21.”

ADDRESSES: Both the SPEA and FONSI are available for review or copying at the Docket Management Facility, U.S. Department of Transportation, Room PL-401, 400 Seventh Street, SW., Washington, DC, between the hours 9 a.m. and 5 p.m., Monday through Friday, except Federal holidays. The telephone number is 202-366-9329. The documents may also be viewed on the Internet at Web address: http://dms.dot.gov.

FOR FURTHER INFORMATION CONTACT: If you have questions on this notice, the proposed project, the Supplemental Program Environmental Assessment, or the Finding of No Significant Impact, call Ms. Donna M. Meyer, Environmental Program Manager, National Distress and Response System Modernization Project, U.S. Coast Guard Headquarters, at 202-267-1496. For questions on viewing material in the docket, call Ms. Dorothy Beard, Chief, Dockets, Department of Transportation, at 202-366-5149.

SUPPLEMENTARY INFORMATION: In accordance with the National Environmental Policy Act (NEPA) (42 U.S.C. 4321 et seq.) and the Council on Environmental Quality's Regulations for Implementing NEPA (40 CFR parts 1500-1508), the Coast Guard is announcing that it has approved its Supplemental Program Environmental Assessment (SPEA) and has made available its Finding of No Significant Impact (FONSI) for the proposed modernization of the National Distress and Response System (NDRS) known as “Rescue 21.”

Supplemental Program Environmental Assessment

The Coast Guard prepared an SPEA that assessed the impacts of the no action alternative and three action alternatives that could meet the system requirements for modernizing the National Distress and Response System (NDRS). On September 30, 2002, we published a notice of availability of the SPEA in the Federal Register (67 FR 61372). We also circulated 183 copies of the SPEA to interested persons. During the comment period, September 27, 2002, to October 28, 2002, a total of 18 comment letters were received. We reviewed the comments but they revealed no new or additional environmental information.

Finding of No Significant Impact

After considering the comments received during the review and comment period, the Coast Guard issued a Finding of No Significant Impact as a result of modernizing the National Distress and Response System. The modernization of the NDRS will utilize a combination of all three of the action alternatives analyzed in the SPEA by using existing antenna towers, leasing antenna space from a service provider, or constructing a new antenna tower site.

The purpose of this notice is to inform local, State, and Federal government agencies and the public that the Supplemental PEA and FONSI are available for review.

Dated: November 12, 2002.
C.D. Wurster,
RADM, U.S. Coast Guard, Assistant Commandant for Acquisitions.

[FR Doc. 02-29652 Filed 11-20-02; 8:45 am]

BILLING CODE 4910-15-P